DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treasury.gov/ofac).

Notice of OFAC Action(s)

On October 26, 2017, OFAC determined that the property and interests in property subject to U.S. jurisdiction of the following persons are blocked under the relevant sanctions authorities listed below. Dealings in property subject to U.S. jurisdiction in which a person identified as Government of North Korea has an interest are prohibited effective as of the date of that status, which may be earlier than the date of OFAC's determination.

Individuals

1. JONG, Yong Su, Korea, North; DOB 15 Dec 1950; nationality Korea, North; Gender Male; Passport 563310172; Minister of Labor (individual) [DPRK2].

Designated pursuant to section 1(a)(ii) of Executive Order 13687 of January 2, 2015, “Imposing Additional Sanctions With Respect to North Korea” (E.O. 13687), for being an official of the Government of North Korea.

2. JO, Kyong-Chol (a.k.a. CHO, Kyo'ng-ch'o'l), Korea, North; DOB 1944 to 1945; POB Korea, North; nationality Korea, North; DPRK Director of Military Security Command (individual) [DPRK2].

Designated pursuant to section 1(a)(ii) of E.O. 13687 for being an official of the Government of North Korea.

3. KIM, Kang Jin (a.k.a. KIM, Kang-chin), Korea, North; DOB 22 Apr 1961; POB Pyongyang, North Korea; nationality Korea, North; Gender Male; Director, External Construction Bureau (individual) [DPRK2].

Designated pursuant to section 1(a)(ii) of E.O. 13687 for being an official of the Government of North Korea.

4. KU, Sung Sop (a.k.a. KU, Seung Sub; a.k.a. KU, Su'ng-so'p; a.k.a. KU, Young Hyok), Shenyang, China; DOB 07 Nov 1959; POB Pyongan-bukdo, North Korea; nationality Korea, North; Passport 321233 (Korea, North); Consul General, Shenyang, China (individual) [DPRK2].

Designated pursuant to section 1(a)(ii) of E.O. 13687 for being an official of the Government of North Korea.

5. KIM, Min Chol, Vietnam; DOB 21 Sep 1967; POB North Korea; nationality Korea, North; Diplomat at North Korean Embassy (individual) [DPRK2].

Designated pursuant to section 1(a)(ii) of E.O. 13687 for being an official of the Government of North Korea.

6. RI, Thae Chol (a.k.a. RI, Tae-Chol; a.k.a. RI, T'ae-Ch'o'l); DOB 01 Jan 1947 to 31 Dec 1947; nationality Korea, North; DPRK First Vice Minister of People's Security (individual) [DPRK2] (Linked To: KOREAN PEOPLE'S ARMY).

Designated pursuant to section 1(a)(ii) of E.O. 13687 for being an official of the Government of North Korea and the Worker's Party of Korea.

7. SIN, Yong Il (a.k.a. SHIN, Yong Il; a.k.a. SIN, Yo'ng Il), Korea, North; DOB 28 Feb 1948; nationality Korea, North; Passport PD654210116 (Korea, North); Deputy Director of the Military Security Command (individual) [DPRK2].

Designated pursuant to section 1(a)(ii) of E.O. 13687 for being an official of the Government of North Korea.

Entities

1. CH'OLHYO'N OVERSEAS CONSTRUCTION COMPANY, Kuwait; Algeria [DPRK3].

Identified as falling within the definition of the Government of North Korea as set forth in Section 9(d) of Executive Order 13722 of March 15, 2016, “Blocking Property of the Government of North Korea and the Workers' Party of Korea, and Prohibiting Certain Transactions With Respect to North Korea” (E.O. 13722) because it is an agency, instrumentality, or controlled entity of the Government of North Korea.

2. EXTERNAL CONSTRUCTION BUREAU (a.k.a. EXTERNAL CONSTRUCTION GENERAL COMPANY; a.k.a. EXTERNAL CONSTRUCTION GUIDANCE BUREAU), Korea, North; Kuwait; Qatar; United Arab Emirates; Oman [DPRK3].

Identified as falling within the definition of the Government of North Korea as set forth in Section 9(d) of E.O. 13722 because it is an agency, instrumentality, or controlled entity of the Government of North Korea.

3. MILITARY SECURITY COMMAND (a.k.a. KOREAN PEOPLE'S ARMY SECURITY BUREAU; a.k.a. MILITARY SECURITY BUREAU), Korea, North [DPRK3].

Identified as falling within the definition of the Government of North Korea as set forth in Section 9(d) of E.O. 13722 because it is an agency, instrumentality, or controlled entity of the Government of North Korea.

John E. Smith,
Director, Office of Foreign Assets Control.

[FR Doc. 2017-23666 Filed 10-30-17; 8:45 am]

BILLING CODE 4810-AL-P